DEPARTMENT OF DEFENSE

Department of the Air Force

[Docket ID USAF-2008-0055]

Privacy Act of 1974; System of Records

AGENCY: Department of the Air Force, DoD.

ACTION: Notice to Add a System of Records Notice.

SUMMARY: The Department of the Air Force proposes to add a system of records notice to its inventory of records systems subject to the Privacy Act of 1974 (5 U.S.C. 552a), as amended.

DATES: The actions will be effective on January 29, 2009 unless comments are received that would result in a contrary determination.

ADDRESSES: Send comments to the Air Force Privacy Act Officer, Office of Warfighting Integration and Chief Information Officer, SAF/XCPPI, 1800 Air Force Pentagon, Washington, DC 20330-1800.

FOR FURTHER INFORMATION CONTACT: Mr. Kenneth Brodie at (703) 696-7557.

SUPPLEMENTARY INFORMATION: The Department of the Air Force's record system notices for records systems subject to the Privacy Act of 1974 (5 U.S.C. 552a), as amended, have been published in the Federal Register and are available from the address above.

The proposed system report, as required by 5 U.S.C. 522a(r) of the Privacy Act of 1974, as amended, was submitted on December 17, 2008, to the House Committee on Government on Oversight and Reform, the Senate Committee on Homeland Security and Governmental Affairs, and the Office of Management and Budget (OMB) pursuant to paragraph 4c of Appendix I to OMB Circular No. A-130, “Federal Agency Responsibilities for Maintaining Records About Individuals,” dated February 8, 1996 (February 20, 1996, 61 FR 6427).

Dated: December 18, 2008.
Morgan E. Frazier,
Alternate Federal Register Liaison Officer, Department of Defense.

F048 AFRC A

SYSTEM NAME:

Reserve Component Periodic Health Assessment (RCPHA) Records.

SYSTEM LOCATION:

HQ Air Force Reserve Command, HQ AFRC/SGSI, Air Force Reserve Command, 155 Richard Ray Blvd., Bldg 210, Warner Robins, GA 31098-1601.

CATEGORIES OF INDIVIDUALS COVERED BY THE SYSTEM:

Members of the Air Force Ready Reserve Components.

CATEGORIES OF RECORDS IN THE SYSTEM:

Individual's name, Social Security Number (SSN), address, phone number, date of birth, age, e-mail address, and to include medical history.

AUTHORITY FOR MAINTENANCE OF THE SYSTEM:

10 U.S.C. Sections 10206, Members: physical examinations; and DoDD 1200.7, Screening the Ready Reserve; and E.O. 9397 (SSN).

PURPOSE(S):

Ensure screening, at least annually, of all Reserve Component Ready Reservists for their immediate availability for active duty and to ensure capability to deploy or to meet the mission requirement. This is a web based system of records for improving these procedures. Medical units will be able to download the Reserve Component Health Risk Assessment form/certificate directly from the Web site which will reduce the number of visits reserve individuals need to make to medical units during their training days.

POLICIES AND PRACTICES FOR STORING, RETRIEVING, ACCESSING, RETAINING, AND DISPOSING OF RECORDS IN THE SYSTEM:

In addition to those disclosures generally permitted under 5 U.S.C. 552a(b) of the Privacy Act of 1974, these records or information contained therein may specifically be disclosed outside the Department of Defense as a routine use pursuant to 5 U.S.C. 552a(3).

The “Blanket Routine Uses” published at the beginning of the Air Force's compilation of the systems of records notices apply to this system.

Note: This system of records contains individually identifiable health information. DoD 6025.18-R, “DoD Health Information Privacy Regulation” issued pursuant to the Health Insurance Portability and Accountability Act of 1996, applies to most such health information. DoD 6025.18-R may place additional procedural requirements on the uses and disclosures of such information beyond those found in the Privacy Act of 1974 or mentioned in this system of records notice.

STORAGE:

Electronic storage media.

RETRIEVABILITY:

Individual's name and Social Security Number (SSN).

SAFEGUARDS:

Records are accessed by medical person(s) responsible for the medical processing. All person(s) are properly screened and cleared for need-to-know. Records are protected by standard Air Force access authentication procedures and by network system security software.

RETENTION AND DISPOSAL:

Data stored digitally within the system is retained only for the period required to satisfy recurring processing requirements and/or historical requirements.

ELECTRONIC COPIES CREATED USING ELECTRONIC MAIL AND WORD PROCESSING:

Destroy paper after recordkeeping copy has been created and filed or when no longer needed for revision, dissemination, or reference, whichever is later.

ELECTRONIC SYSTEMS THAT REPLACE TEMPORARY HARD COPY RECORDS:

Destroy on expiration of the retention period previously approved for the corresponding hard copy records.

ELECTRONIC SYSTEMS THAT SUPPLEMENT TEMPORARY HARD COPY RECORDS WHERE THE HARD COPY RECORDS ARE RETAINED TO MEET RECORDKEEPING REQUIREMENTS:

Destroy when the agency determines that the electronic records are superseded, obsolete, or no longer needed for administrative, legal, audit, or other operational purposes. Method of destruction is by shredding.

SYSTEM MANAGER(S) AND ADDRESS:

Department of the Air Force, Chief, Medical Information Systems, HQ AFRC/SGSI, Air Force Reserve Command, 155 Richard Ray Blvd., Bldg 210, Warner Robins, GA 31088-1601.

NOTIFICATION PROCEDURE:

Individuals seeking to determine whether this system of records contains information on themselves should address written inquiries to Department of the Air Force, Chief, Medical Information Systems, HQ AFRC/SGSI, Air Force Reserve Command, 155 Richard Ray Blvd., Bldg 210, Warner Robins, GA 31088-1601.

Written request will contain individual's name and Social Security Number (SSN).

RECORD ACCESS PROCEDURES:

Individuals seeking access to information about themselves contained in this system of records should address written inquiries to Department of the Air Force, Chief, Medical Information Systems, HQ AFRC/SGSI, Air Force Reserve Command, 155 Richard Ray Blvd., Bldg 210, Warner Robins, GA 31088-1601.

Written request will contain individual's name and Social Security Number (SSN).

CONTESTING RECORDS PROCEDURES:

The Air Force rules for accessing records and for contesting and appealing initial agency determinations are published in Air Force Instruction 33-132; 32 CFR part 806b; or may be obtained from the system manager.

RECORD SOURCE CATEGORIES:

Individuals, supervisors, Air Force reports.

EXEMPTIONS CLAIMED FOR THE SYSTEM:

None.

[FR Doc. E8-30864 Filed 12-29-08; 8:45 am]

BILLING CODE 5001-06-P